FEDERAL MARITIME COMMISSION

[Docket No. 11-08]

Ndahendekire Barbara v. African Shipping; Njoroge Muhia; Alco Logistics, Llc; Brenda Alexander; and AIR 7 Seas Transportlogistics, Inc.; Notice of Filing of Complaint and Assignment

Notice is given that a complaint has been filed with the Federal Maritime Commission (“Commission”) by Ndahendekire Barbara, hereinafter “Complainant,” against African Shipping; Njoroge Muhia, ALCO Logistics, LLC; Brenda Alexander; and Air 7 Seas Transport Logistics, Inc.; hereinafter “Respondents”. Complainant asserts that she is acting agent for Ndahendekire Foundation located in Mbarara, Uganda. Complainant alleges that: Respondent African Shipping specializes in international cargo shipping; Respondent Njoroge Muhia is Chief Executive Officer for African Shipping; Respondent ALCO Logistics, LLC, is a freight forwarding and logistics company; Respondent Brenda Alexander is an acting agent for ALCO Logistics, LLC; and Respondent Air 7 Seas Transport Logistics, Inc., is a freight forwarding company.

Complainant alleges that Respondents, in connection with the shipment of two containers and chassis to Mombasa Kenya, violated Section 10(d)(1) of the Shipping Act, 46 U.S.C. 41102(c), by “failing to ensure that Ms. Barbara[`s] (sic) container was delivered safely, securely and on time to the required destination.” Specifically, Complainant alleges that Respondents “Mr. Muhia and African Shipping are in full breach of contract by contracting with other shippers and not paying the shippers, allowing the containers and chassis to be delivered to the wrong location, not notifying Ms. Barbara of the delivery, allowing demurrages to incur, requesting additional payments for delivery and release of the chassis and containers.” Complainant also alleges that Respondents thereby caused “Ms. Barbara additional shipping cost as well as the loss of her contract for supplying medical supplies and equipment.”

Complainant asks “that respondent be required to answer the charges herein; that after due hearing, an order be made commanding said respondent (and each of them); to cease and deist (sic) from the aforesaid violations of said act(s); to establish and put in force such practices as the Commission determines to be lawful and reasonable; to pay said complainant by way of reparations for the unlawful conduct * * * the sum of One Hundred Fifty Thousand Dollars and zero cents ($150,000), with interest and attorney's fees or such sum as the Commission may determine to be proper as an award of reparation; and that such other and further order or orders be made as the Commission determines to be proper in the premises.”

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by May 9, 2012 and the final decision of the Commission shall be issued by September 6, 2012.

Karen V. Gregory,
Secretary.

[FR Doc. 2011-11888 Filed 5-13-11; 8:45 am]

BILLING CODE 6730-01-P